DEPARTMENT OF DEFENSE

Department of the Army

Intent To Prepare a Joint Draft Environmental Impact Statement/Environmental Impact Report for the Wilson Creek/Oak Glen Creek Feasibility Study in the City of Yucaipa, San Bernardino County, CA; Correction

AGENCY: Department of the Army, U.S. Army Corps of Engineers, DoD.

ACTION: Meeting date correction.

SUMMARY: The public scoping meetings scheduled for January 14, 2004 published in the Federal Register on Monday, December 29, 2003 (68 FR 74949) has been rescheduled. The public scoping meeting will now be held on February 4, 2004 from 6 p.m. to 9 p.m. at the City of Yucaipa Council Chambers, 34272s Yucaipa Boulevard, Yucaipa, CA.

FOR FURTHER INFORMATION CONTACT: Ms. Lois Goodman, Environmental Coordinator, telephone (213)-452-3869.

Luz D. Ortiz,
Army Federal Register Liaison Officer.

[FR Doc. 04-72 Filed 1-2-04; 8:45 am]

BILLING CODE 3710-KF-M